SMALL BUSINESS ADMINISTRATION

[Declaration of Disaster #3512]

State of West Virginia

As a result of the President's major disaster declaration on June 21, 2003 I find that Boone, Kanawha, Logan, Mason, Putnam, and Wayne Counties in the State of West Virginia constitute a disaster area due to damages caused by severe storms, flooding, and landslides that occurred June 11, 2003 and continuing. Applications for loans for physical damage as a result of this disaster may be filed until the close of business on August 20, 2003, and for loans for economic injury until the close of business on March 22, 2004 at the address listed below or other locally announced locations:

U.S. Small Business Administration, Disaster Area 1 Office, 360 Rainbow Blvd., South, 3rd Floor, Niagara Falls, NY 14303.

In addition, applications for economic injury loans from small businesses located in the following contiguous counties may be filed until the specified date at the above location: Boyd, Lawrence, and Martin Counties in the Commonwealth of Kentucky; Gallia, Lawrence, and Meigs Counties in the State of Ohio; and Cabell, Clay, Fayette, Jackson, Lincoln, Mingo, Nicholas, Raleigh, Roane, and Wyoming Counties in the State of West Virginia.

The interest rates are:

| Percent
For Physical Damage:
Homeowners with Credit Available Elsewhere | 5.625
Homeowners without Credit Available Elsewhere | 2.812
Businesses with Credit Available Elsewhere | 5.906
Businesses and Non-Profit Organizations Without Credit Available Elsewhere | 2.953
Others (Including Non-Profit Organizations) with Credit Available Elsewhere | 5.500
For Economic Injury
Businesses and Small Agricultural Cooperatives without Credit Available Elsewhere | 2.953

The number assigned to this disaster for physical damage is 351211 and for economic injury the numbers are 9V9900 for the State of West Virginia, 9W0100 for the Commonwealth of Kentucky, and 9W0200 for the State of Ohio.

(Catalog of Federal Domestic Assistance Program Nos. 59002 and 59008.)
Dated: June 23, 2003.
Herbert L. Mitchell,
Associate Administrator for Disaster Assistance.

[FR Doc. 03-16390 Filed 6-27-03; 8:45 am]

BILLING CODE 8025-01-P